DEPARTMENT OF ENERGY

Environmental Management Site-Specific Advisory Board, Hanford

AGENCY: Department of Energy.

ACTION: Notice of open meeting.

SUMMARY: This notice announces a meeting of the Environmental Management Site-Specific Advisory Board (EM SSAB), Hanford. The Federal Advisory Committee Act (Pub. L. 92-463, 86 Stat. 770) requires that public notice of these meetings be announced in the Federal Register.

DATES: Thursday, February 6, 2003, 9 a.m.-5 p.m.

Friday, February 7, 2003, 8:30 a.m.-4 p.m.

ADDRESSES: Red Lion Hotel Hanford House, 802 George Washington Way, Richland, WA, Phone: (509) 946-7611, Fax: (509) 943-8564.

FOR FURTHER INFORMATION CONTACT: Yvonne Sherman, Public Involvement Program Manager, Department of Energy Richland Operations Office, 825 Jadwin, MSIN A7-75, Richland, WA, 99352; Phone: (509) 376-6216; Fax: (509) 376-1563.

SUPPLEMENTARY INFORMATION: Purpose of the Board: The purpose of the Board is to make recommendations to DOE and its regulators in the areas of environmental restoration, waste management, and related activities.

Tentative Agenda:

Thursday, February 6, 2003

• Introduction and discussion of Draft Advice on the Notice of Intent to Prepare an Environmental Impact Statement for Accelerated Retrieval, Treatment and Disposal of Tank Waste and Closure of Tanks at the Hanford site.

• Strategic Initiative #4, Accelerated Waste Disposal, Performance Management Plan for Accelerated Cleanup of the Hanford Site and emerging issues on off-site waste shipments.

• 116N Trench Determination of Significance.

• Introduction and discussion of Draft Advice on Transuranic Waste from EM SSAB Transuranic Waste Management Workshop

Friday, February 7, 2003.

• Adoption of Draft Advice.

• Hanford Exposure Scenarios Task Force Final Report.

• Hanford Advisory Board Annual Report for 2002.

• Hanford Advisory Board Self Evaluation.

Public Participation: The meeting is open to the public. Written statements may be filed with the Board either before or after the meeting. Individuals who wish to make oral statements pertaining to agenda items should contact Yvonne Sherman's office at the address or telephone number listed above. Requests must be received five days prior to the meeting and reasonable provision will be made to include the presentation in the agenda. The Deputy Designated Federal Officer is empowered to conduct the meeting in a fashion that will facilitate the orderly conduct of business. Each individual wishing to make public comment will be provided equal time to present their comments.

Minutes: The minutes of this meeting will be available for public review and copying at the Freedom of Information Public Reading Room, 1E-190, Forrestal Building, 1000 Independence Avenue, SW., Washington, DC 20585 between 9 a.m. and 4 p.m., Monday-Friday, except Federal holidays. Minutes will also be available by writing to Yvonne Sherman, Department of Energy Richland Operation Office, 825 Jadwin, MSIN A7-75, Richland, WA 99352, or by calling her at (509) 376-1563.

Issued at Washington, DC, on December 31, 2002.
Rachel M. Samuel,
Deputy Advisory Committee Management Officer.

[FR Doc. 03-379 Filed 1-8-03; 8:45 am]

BILLING CODE 6450-01-P